NATIONAL AERONAUTICS AND SPACE ADMINISTRATION

Notice (06-085)

National Environmental Policy Act; Mars Science Laboratory Mission

AGENCY: National Aeronautics and Space Administration (NASA).

ACTION: Notice of availability of final environmental impact statement (FEIS) for implementation of the Mars Science Laboratory (MSL) mission.

SUMMARY: Pursuant to the National Environmental Policy Act of 1969, as amended (NEPA) (42 U.S.C. 4321 et seq.), the Council on Environmental Quality Regulations for Implementing the Procedural Provisions of NEPA (40 CFR Parts 1500-1508), and NASA policy and procedures (14 CFR Part 1216 subpart 1216.3), NASA has prepared and issued a FEIS for the proposed MSL mission. The FEIS addresses the potential environmental impacts associated with implementing the mission. The purpose of this proposal is to explore the surface of Mars with a mobile science laboratory (hereinafter called the “rover”). This environmental impact statement (EIS) is a tiered document (Tier 2 EIS) under NASA's Programmatic EIS for the Mars Exploration Program (MEP). The FEIS presents descriptions of the proposed MSL mission, spacecraft, and candidate launch vehicles; an overview of the affected environment at and near the launch site; and the potential environmental consequences associated with the Proposed Action and alternatives, including the No Action Alternative.

The MSL mission is planned for launch during the September-November 2009 time period from Cape Canaveral Air Force Station (CCAFS), Florida, on an expendable launch vehicle. The arrival date at Mars would range from mid-July 2010 to not later than mid-October 2010, depending on the exact launch date and the yet to be determined landing site on the surface of Mars. Using advanced instrumentation, the MSL rover would strive to acquire significant detailed information regarding the habitability of Mars from a scientifically promising location on the surface. The mission would also fulfill NASA's strategic technology goals of increasing the mass of science payloads delivered to the surface of Mars, expanding access to higher and lower latitudes, increasing precision landing capability, and increasing traverse capability (mobility) to distances on the order of several kilometers.

The FEIS evaluates two alternatives in addition to the No Action Alternative. Under the Proposed Action (Alternative 1, NASA's Preferred Alternative), the proposed MSL rover would utilize a radioisotope power system, a Multi-Mission Radioisotope Thermoelectric Generator (MMRTG), as its primary source of electrical power to operate and conduct science on the surface of Mars. Under Alternative 2, an MSL rover would utilize solar energy as its primary source of electrical power to operate and conduct science on the surface of Mars.

DATES: NASA will take no final action on the proposed MSL mission on or before December 21, 2006, or 30 days from the date of publication in the Federal Register of the U.S. Environmental Protection Agency (EPA) notice of availability of the MSL FEIS, whichever is later.

ADDRESSES: The FEIS may be reviewed at the following locations:

(a) NASA Headquarters, Library, Room 1J20, 300 E Street, SW., Washington, DC 20546-0001;

(b) Jet Propulsion Laboratory, Visitors Lobby, Building 249, 4800 Oak Grove Drive, Pasadena, CA 91109.

Hard copies of the FEIS also may be examined at other NASA Centers (see SUPPLEMENTARY INFORMATION below).

Limited hard copies of the FEIS are available, on a first request basis, by contacting Mark R. Dahl at the address, telephone number, or electronic mail address indicated below. The FEIS is also available in Adobe® portable document format at http://spacescience.nasa.gov/admin/pubs/msl/index.htm. NASA's Record of Decision (ROD) will also be placed on that Web site when it is issued. Anyone who desires a hard copy of NASA's ROD when it is issued should so indicate by contacting Mr. Dahl.

FOR FURTHER INFORMATION CONTACT: Mark R. Dahl, Planetary Science Division, Science Mission Directorate, NASA Headquarters, Washington, DC 20546-0001, telephone 202-358-4800, or electronic mail mep.nepa@hq.nasa.gov.

SUPPLEMENTARY INFORMATION: The MEP is currently being implemented as a sustained series of flight missions to Mars, each of which will provide important, focused scientific return. The MEP is fundamentally a science driven program whose focus is on understanding and characterizing Mars as a dynamic system and ultimately addressing whether life is or was ever a part of that system. The core MEP addresses the highest priority scientific investigations directly related to the Program goals and objectives. MSL investigations would be a means of addressing several of the high-priority scientific investigations recommended to NASA by the planetary science community.

The overall scientific goals of the MSL mission can be divided into four areas: (1) Assess the biological potential of at least one selected site on Mars; (2) characterize the geology and geochemistry of the landing region at all appropriate spatial scales; (3) investigate planetary processes of relevance to past habitability; and (4) characterize the broad spectrum of the Martian surface radiation environment. The following specific objectives are planned for the mission to address these goals:

—Determine the nature and inventory of organic carbon compounds;

—Inventory the chemical building blocks of life (carbon, hydrogen, nitrogen, oxygen, phosphorus, and sulfur);

—Identify features that may represent the effects of biological processes;

—Investigate the chemical, isotopic, and mineralogical composition of Martian surface and near-surface geological materials;

—Interpret the processes that have formed and modified rocks and regolith;

—Assess long-timescale (i.e., 4-billion-year) atmospheric evolution processes; and

—Determine the present state, distribution, and cycling of water and carbon dioxide.

The proposed MSL mission would utilize a rover with advanced instrumentation to acquire significant detailed information regarding the habitability of Mars from a scientifically promising location. The mission would also fulfill NASA's strategic technology goals of increasing the mass of science payloads delivered to the surface of Mars, expanding access to higher and lower latitudes, increasing precision landing capability, and increasing traverse capability (mobility) to distances on the order of several kilometers.

Mobility is essential because evidence for past or present life on Mars will very likely not be so abundant or widespread that it will be available in the immediate vicinity of the selected landing site. Without the mobility necessary to conduct in situ exploration, it may not be possible to uniquely characterize a target location.

The Proposed Action (Alternative 1, NASA's Preferred Alternative) consists of continuing preparations for and implementing the MSL mission to Mars. The proposed MSL rover would utilize a MMRTG as its primary source of electrical power to operate and conduct science on the surface of Mars. Under Alternative 2, NASA would discontinue preparations for the Proposed Action (Alternative 1) and implement an alternative MSL mission to Mars. The alternative MSL rover would utilize solar energy as its primary source of electrical power to operate and conduct science on the surface of Mars. With either the Proposed Action (Alternative 1) or Alternative 2, the MSL spacecraft would be launched on board an expendable launch vehicle from CCAFS, Florida during the September—November 2009 time period. Under the No Action Alternative, NASA would discontinue preparations for the MSL mission, and the spacecraft would not be launched.

With either the Proposed Action (Alternative 1) or Alternative 2, the potentially affected environment for a normal launch includes the area at and in the vicinity of the launch site, CCAFS in Florida. The environmental impacts of a normal launch of the mission for either alternative would be associated principally with the exhaust emissions from the expendable launch vehicle. These effects would include: (1) Short-term impacts on air quality within the exhaust cloud and near the launch pad; and (2) the potential for acidic deposition on the vegetation and surface water bodies at and near the launch complex.

Potential launch accidents could result in the release of some of the radioactive material on board the spacecraft. The MMRTG planned for use on the rover for the Proposed Action (Alternative 1) would use approximately 4.8 kilograms (10.6 pounds) of plutonium dioxide to provide electrical power. For either alternative, two of the science instruments on the rover would use small quantities of radioactive material, totaling approximately two curies, for instrument calibration or science experiments.

The U.S. Department of Energy (DOE), in cooperation with NASA, has performed a risk assessment of potential accidents for the MSL mission. This assessment used a methodology refined through applications to the Galileo, Ulysses, Cassini, Mars Exploration Rover, and New Horizons missions. DOE's risk assessment for the proposed MSL mission indicates that in the event of a launch accident the expected impacts of released radioactive material at and in the vicinity of the launch area, and on a global basis, would be small. Alternative 2 would not involve any MMRTG-associated radiological risks since an MMRTG would not be used for this mission alternative.

The FEIS may be reviewed at the following public libraries in Florida:

(a) Central Brevard Public Library and Reference Center, 308 Forrest Avenue, Cocoa, FL 32922;

(b) Cocoa Beach Public Library, 550 North Brevard Avenue, Cocoa Beach, FL 32931;

(c) Melbourne Public Library, 540 East Fee Avenue, Melbourne, FL 32901;

(d) Merritt Island Public Library, 1195 North Courtenay Parkway, Merritt Island, FL 32953;

(e) Port St. John Public Library, 6500 Carole Avenue, Port St. John, FL 32927;

(f) Titusville Public Library, 2121 South Hopkins Avenue, Titusville, FL 32780.

The FEIS also may be examined at the following NASA locations by contacting the pertinent Freedom of Information Office:

(a) NASA, Ames Research Center, Moffett Field, CA 94035 (650-604-3273);

(b) NASA, Dryden Flight Research Center, Edwards, CA 93523 (661-276-2704);

(c) NASA, Glenn Research Center at Lewis Field, Cleveland, OH 44135 (866-404-3642);

(d) NASA, Goddard Space Flight Center, Greenbelt, MD 20771 (301-286-4721);

(e) NASA, Johnson Space Center, Houston, TX 77058 (281-483-8612);

(f) NASA, Kennedy Space Center, FL 32899 (321-867-2745);

(g) NASA, Langley Research Center, Hampton, VA 23681 (757-864-2497);

(h) NASA, Marshall Space Flight Center, Huntsville, AL 35812 (256-544-1837); and

(i) NASA, Stennis Space Center, MS 39529 (228-688-2118).

NASA published a Notice of Availability (NOA) of the Draft EIS (DEIS) for the MSL mission in the Federal Register on September 5, 2006, (71 FR 52347) and made the DEIS available in electronic format on its Web site. The EPA published its NOA in the Federal Register on September 8, 2006, (71 FR 53093). In addition, NASA published its NOA in local newspapers in the Cape Canaveral, Florida regional area, and in Washington, DC, and held public meetings in Cocoa, Florida on September 27, 2006, and in Washington, DC on October 10, 2006, during which attendees were invited to present both oral and written comments on the DEIS. Three comments relevant to the DEIS were presented at these meetings. NASA received 44 written comment submissions, both hardcopy and electronic, during the comment period ending October 23, 2006. The comments are addressed in the FEIS.

Olga M. Dominguez,
Assistant Administrator for Infrastructure and Administration.

[FR Doc. E6-19610 Filed 11-20-06; 8:45 am]

BILLING CODE 7510-13-P